SURFACE TRANSPORTATION BOARD

[Docket No. FD 36905]

DB Rail, LLC—Acquisition and Operation Exemption—Cleveland-Cliffs Railways Inc.

DB Rail, LLC (DB Rail), a noncarrier, has filed a verified notice of exemption under 49 CFR 1150.31 to acquire from Cleveland-Cliffs Railways Inc. (Cliffs) and operate approximately 3.1 miles of rail line in the Borough of Steelton, Dauphin County, Pa. (the Line). The Line has no mileposts.

The verified notice states that DB Rail and Cliffs have entered into an agreement pursuant to which DB Rail will acquire the Line, which connects with Norfolk Southern Railway Company at either end, as well as certain additional yard and industrial tracks.¹ DB Rail states that it intends to operate the Line as a common carrier.

¹ According to the verified notice, Cliffs is the successor to prior carriers operating under variations of the “Steelton & Highspire” name historically associated with Bethlehem Steel rail operations in Steelton. The extent of the additional rail assets to be purchased is discussed in BD Highspire Holdings, LLC—Acquis. & Operation Exemption—Mittal Steel USA-Railways Inc., FD 35987 (STB served Jan. 14, 2016).

DB Rail certifies that there are no interchange commitments associated with the transaction. DB Rail also certifies that its projected annual revenues are not expected to exceed $5 million and that the proposed transaction will not result in DB Rail becoming a Class I or Class II rail carrier.

The earliest this transaction may be consummated is March 7, 2026, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than February 27, 2026 (at least seven days before the exemption becomes effective).

All pleadings, referring to Docket No. FD 36905, must be filed with the Surface Transportation Board either via e-filing on the Board's website or in writing addressed to 395 E Street SW, Washington, DC 20423-0001. In addition, a copy of each pleading must be served on DB Rail's representative, Bradon J. Smith, Marwedel, Minichello & Reeb, PC, 303 W Madison Street, Suite 1100, Chicago, IL 60606.

According to DB Rail, this action is categorically excluded from environmental review under 49 CFR 1105.6(c) and from historic preservation reporting requirements under 49 CFR 1105.8(b).

Board decisions and notices are available at www.stb.gov.

Decided: February 17, 2026.
By the Board, Anika S. Cooper, Chief Counsel, Office of Chief Counsel.
Eden Besera,
Clearance Clerk.

[FR Doc. 2026-03328 Filed 2-19-26; 8:45 am]

BILLING CODE 4915-01-P